DEPARTMENT OF COMMERCE

International Trade Administration

[A-570-051]

Certain Hardwood Plywood Products From the People's Republic of China: Preliminary Results of Antidumping Duty Administrative Review and Preliminary Determination of No Shipments; 2021

AGENCY: Enforcement and Compliance, International Trade Administration, Department of Commerce.

SUMMARY: The U.S. Department of Commerce (Commerce) preliminarily determines that six exporters of certain hardwood plywood products (hardwood plywood) from the People's Republic of China (China) under review had no shipments of subject merchandise during the period of review (POR) January 1, 2021, through December 31, 2021. Commerce also preliminarily determines that the remaining 14 companies subject to this review are part of the China-wide entity because they did not demonstrate eligibility for separate rates.

DATES: Applicable October 17, 2022.

FOR FURTHER INFORMATION CONTACT: Nicolas Mayora, AD/CVD Operations, Office V, Enforcement and Compliance, International Trade Administration, U.S. Department of Commerce, 1401 Constitution Avenue NW, Washington, DC 20230; telephone: (202) 482-3053.

SUPPLEMENTARY INFORMATION:

Background

On January 4, 2018, Commerce published in the Federal Register the antidumping duty order on hardwood plywood from China.¹ On January 11, 2022, Commerce published in the Federal Register a notice of opportunity to request an administrative review of the Order.² On March 9, 2022, based on a timely request for an administrative review, Commerce initiated the administrative review with respect to 20 exporters.³ Subsequently, we released U.S. Customs and Border Protection (CBP) data to interested parties for comment.⁴

¹ See Certain Hardwood Plywood Products from the People's Republic of China: Amended Final Determination of Sales at Less Than Fair Value, and Antidumping Duty Order, 83 FR 504 (January 4, 2018) (Order).

² See Antidumping or Countervailing Duty Order, Finding, or Suspended Investigation; Opportunity to Request Administrative Review and Join Annual Inquiry Service List, 87 FR 1396 (January 11, 2022).

³ See Initiation of Antidumping and Countervailing Duty Administrative Reviews, 87 FR 13252 (March 9, 2022).

⁴ See Memorandum, “Release of U.S. Customs and Border Protection Data,” dated March 15, 2022.

Between March 17 and April 8, 2022, we received timely no-shipment certifications from six companies.⁵ We did not receive a no-shipment statement, separate rate application (SRA), or separate rate certification (SRC) from any other company subject to this review.

⁵ We received timely no-shipment certifications from the following companies: (1) Cosco Star International Co., Ltd.; (2) Linyi Evergreen Wood Co., Ltd.; (3) Linyi Huasheng Yongbin Wood Co., Ltd.; (4) Linyi Sanfortune Wood Co., Ltd.; (5) Shanghai Luli Trading Co., Ltd.; and (6) Suqian Hopeway International Trade Co., Ltd.

For a complete description of the events that followed the initiation of this administrative review, see the Preliminary Decision Memorandum.⁶ A list of topics discussed in the Preliminary Decision Memorandum is included at Appendix III to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁶ See Memorandum, “Decision Memorandum for the Preliminary Results of the Antidumping Duty Administrative Review of Certain Hardwood Plywood Products from the People's Republic of China; 2021,” dated concurrently with, and hereby adopted by, this notice (Preliminary Decision Memorandum).

Scope of the Order

The merchandise covered by the scope of this Order is hardwood plywood from China. A complete description of the scope of the Order is contained in the Preliminary Decision Memorandum.⁷

⁷ Id.

Methodology

Commerce is conducting this review in accordance with section 751(a)(1)(B) of the Tariff Act of 1930, as amended (the Act) and 19 CFR 351.213.

Preliminary Determination of No Shipments

Based upon the no-shipment certifications received by Commerce, and our review of the CBP data, we preliminary find that six companies had no shipments during the POR. Commerce requested that CBP confirm whether any shipments of subject merchandise entered the United States during the POR with respect to the six companies that submitted no-shipment claims, and CBP responded that it has no record of any subject entries for these six inquiries.⁸ For additional information regarding this determination, see the Preliminary Decision Memorandum. Consistent with our assessment in non-market economy administrative reviews,⁹ Commerce is not rescinding this review for these six companies.¹⁰ Commerce intends to complete this review and issue appropriate instructions to CBP based on the final results of this review.

⁸ See Memoranda, “No Shipment Inquiry for Suqian Hopeway International Trade Co., Ltd. During the Period 01/01/2021 through 12/31/2021,” dated May 20, 2022; “No Shipment Inquiry for Shanghai Luli Trading Co., Ltd. During the Period 01/01/2021 through 12/31/2021,” dated May 20, 2022; and “No Shipment Inquiry for Certain Companies During the Period 01/01/2021 through 12/31/2021,” dated June 13, 2022.

⁹ See Non-Market Economy Antidumping Proceedings: Assessment of Antidumping Duties, 76 FR 65694, 65694-95 (October 24, 2011) (NME Proceedings); see also “Assessment Rates” section, infra.

¹⁰ See Appendix II.

Separate Rates

Because the other 14 companies under review did not submit an SRA or SRC, Commerce preliminarily determines that these companies have not demonstrated their eligibility for separate rates.¹¹ For additional information, see the Preliminary Decision Memorandum.

¹¹ See Appendix I.

China-Wide Entity

Commerce's policy regarding conditional review of the China-wide entity applies to this administrative review.¹² Under this policy, the China-wide entity will not be under review unless a party specifically requests, or Commerce self-initiates, a review of the China-wide entity.¹³ Because no party requested a review of the China-wide entity in this review, the China-wide entity is not under review and the China-wide entity's rate (i.e., 183.36 percent) is not subject to change.¹⁴ For additional information, see the Preliminary Decision Memorandum.

¹² See Antidumping Proceedings: Announcement of Change in Department Practice for Respondent Selection in Antidumping Duty Proceedings and Conditional Review of the Nonmarket Economy Entity in NME Antidumping Duty Proceedings, 78 FR 65963 (November 4, 2013).

¹³ Id.

¹⁴ See Order, 83 FR at 512.

Public Comment

In accordance with 19 CFR 351.309(c), case briefs or other written comments may be submitted to the Assistant Secretary for Enforcement and Compliance no later than 30 days after the date of publication of these preliminary results. Rebuttal briefs, limited to issues raised in case briefs, may be submitted no later than seven days after the deadline date for case briefs.¹⁵ Pursuant to 19 CFR 351.309(c)(2) and (d)(2), parties who submit case briefs or rebuttal briefs in this review are encouraged to submit with each argument: (1) a statement of the issue; (2) a brief summary of the argument; and (3) a table of authorities. Note that Commerce has temporarily modified certain portions of its requirements for serving documents containing business proprietary information, until further notice.¹⁶

¹⁵ See 19 CFR 351.309; see also 19 CFR 351.303 (for general filing requirements).

¹⁶ See Temporary Rule Modifying AD/CVD Service Requirements Due to Covid-19, Extension of Effective Period, 85 FR 41363 (July 10, 2020).

Pursuant to 19 CFR 351.310(c), interested parties who wish to request a hearing, limited to issues raised in the case and rebuttal briefs, must submit a written request to the Assistant Secretary for Enforcement and Compliance, U.S. Department of Commerce, within 30 days after the date of publication of this notice. Requests should contain: (1) the party's name, address, and telephone number; (2) the number of participants; and (3) a list of issues to be discussed. Oral presentations at the hearing will be limited to those issues raised in the briefs. If a request for a hearing is made, Commerce intends to hold the hearing at a date and time to be determined.¹⁷ Parties should confirm by telephone the date, time, and location of the hearing two days before the scheduled date. An electronically filed hearing request must be received successfully in its entirety by ACCESS by 5:00 p.m. Eastern Time on the established deadline.

¹⁷ See 19 CFR 351.310(d).

Assessment Rates

Upon issuance of the final results of this review, Commerce shall determine, and CBP shall assess, antidumping duties on all appropriate entries covered by this review.¹⁸ We have not calculated any assessment rates in this administrative review. Based on record evidence, we have preliminarily determined that six companies had no shipments of subject merchandise and, therefore, pursuant to Commerce's assessment practice, any suspended entries that entered under their case numbers, where available, will be liquidated at the China-wide entity rate.¹⁹ For all remaining companies subject to this review, which are part of the China-wide entity, we will instruct CBP to liquidate their entries at the current rate for the China-wide entity (i.e., 183.36 percent). Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

¹⁸ See 19 CFR 351.212(b)(1).

¹⁹ For a full discussion of this practice, see NME Proceedings.

Cash Deposit Requirements

The following cash deposit requirements will be effective upon publication of the final results of this administrative review for shipments of the subject merchandise from China entered, or withdrawn from warehouse, for consumption on or after the publication date of the final results of this administrative review, as provided by section 751(a)(2)(C) of the Act: (1) the cash deposit rates for the six companies that had no shipments during the POR will remain unchanged from the rates assigned to them in the most recently completed segment for each company; (2) for previously investigated or reviewed Chinese and non-Chinese exporters that have separate rates, the cash deposit rate will continue to be the exporter-specific rate published for the most recently completed segment of this proceeding; (3) for all Chinese exporters of subject merchandise that have not been found to be entitled to a separate rate,²⁰ the cash deposit rate will be the rate for the China-wide entity (i.e., 183.36 percent); and (4) for all non-Chinese exporters of subject merchandise that have not received their own rate, the cash deposit rate will be the rate applicable to the Chinese exporter that supplied that non-Chinese exporter. These deposit requirements, when imposed, shall remain in effect until further notice.

²⁰ See Appendix I.

Final Results of Review

Unless otherwise extended, Commerce intends to issue the final results of this administrative review, which will include the results of its analysis of issues raised in any briefs, within 120 days of publication of these preliminary results of review, pursuant to section 751(a)(3)(A) of the Act.

Notification to Importers

This notice also serves as a reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties.

Notification to Interested Parties

These preliminary results of administrative review are issued and published in accordance with sections 751(a)(1) and 777(i)(l) of the Act, and 19 CFR 351.213(h)(1).

Dated: October 3, 2022.
Lisa W. Wang,
Assistant Secretary for Enforcement and Compliance.

Appendix I—Companies Not Eligible for a Separate Rate

1. Anhui Hoda Wood Co., Ltd.

2. Happy Wood Industrial Group Co., Ltd.

3. Jiaxing Hengtong Wood Co., Ltd.

4. Linyi Chengen Import and Export Co., Ltd.

5. Linyi Glary Plywood Co., Ltd.

6. Linyi Jiahe Wood Industry Co., Ltd.

7. Qingdao Top P&Q International Corp.

8. Shanghai Brightwood Trading Co., Ltd.

9. Shanghai Futuwood Trading Co., Ltd.

10. Suzhou Oriental Dragon Import and Export Co., Ltd.

11. Xuzhou Jiangheng Wood Products Co., Ltd.

12. Xuzhou Jiangyang Wood Industries Co., Ltd.

13. Xuzhou Timber International Trade Co., Ltd.

14. Zhejiang Dehua TB Import & Export Co., Ltd.

Appendix II—Companies Preliminarily Found To Have No Shipments

1. Cosco Star International Co., Ltd.

2. Linyi Evergreen Wood Co., Ltd.

3. Linyi Huasheng Yongbin Wood Co., Ltd.

4. Linyi Sanfortune Wood Co., Ltd.

5. Shanghai Luli Trading Co., Ltd.

6. Suqian Hopeway International Trade Co., Ltd.

Appendix III—List of Topics Discussed in the Preliminary Decision Memorandum

I. Summary

II. Background

III. Scope of the Order

IV. Discussion of the Methodology

V. Recommendation

[FR Doc. 2022-22442 Filed 10-14-22; 8:45 am]

BILLING CODE 3510-DS-P